DEPARTMENT OF DEFENSE

Department of the Army

[Docket ID: USA-2013-0032]

Proposed Collection; Comment Request

AGENCY: Office of the Administrative Assistant to the Secretary of the Army (OAA-AAHS), DoD.

ACTION: Notice.

SUMMARY: In compliance with Section 3506(c)(2)(A) of the Paperwork Reduction Act of 1995, the Office of the Administrative Assistant to the Secretary of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 18, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of the Army, Military Surface Deployment and Distribution Command, (AMSSD-SP), 1 Soldier Way, ATTN: C. Sue Kennedy, Scott Air Force Base, Illinois 62225-5006, or call Department of the Army Reports Clearance Officer at (703) 428-6440.

SUPPLEMENTARY INFORMATION: Title, Associated Form, and OMB Number: Industry Partnership Survey, OMB Control Number 0702-0122.

Needs and Uses: The information collected from this survey will be used to systematically survey and measure industry contractors to better understand how they feel about SDDC's acquisition processes and to improve the way business is conducted. The SDDC provides global surface deployment command and control and distribution operations to meet National Security objectives in peace and war. They are working to be the Warfighter's single surface deployment/distribution provider for adaptive and flexible solutions delivering capability and sustainment on time. Respondents will be commercial firms who have contracts awarded by SDDC for several program areas.

Affected Public: Business or Other for-Profit.

Annual Burden Hours: 632.

Number of Respondents: 1,264.

Responses per Respondent: 1.

Average Burden per Response: 30 minutes.

Frequency: Annually.

SDDC works with industry partners in several program areas, Global Domestic Distribution Program, Freight Global Distribution Program, Personal Property Traffic Management Program, Transportation Engineering Agency, Army Ammunition & Explosives and several more. Most industry partners only provide services in one or two of the program areas, so the survey design provides for transparently skipping respondents only to the sections that are relevant to them. To make performance improvements in the operations of these programs areas, SDDC plans to undertake voluntary surveys of our “partners” in industry for 3 years from the approval/renewal date.

Dated: September 12, 2013.
Aaron Siegel,
Alternate OSD Federal Register Liaison Officer, Department of Defense.

[FR Doc. 2013-22577 Filed 9-16-13; 8:45 am]

BILLING CODE 5001-06-P